DEPARTMENT OF HEALTH AND HUMAN SERVICES

National Institutes of Health

National Cancer Institute; Notice of Closed Meetings

Pursuant to section 10(d) of the Federal Advisory Committee Act, as amended (5 U.S.C. Appendix 2), notice is hereby given of the following meetings.

The meetings will be closed to the public in accordance with the provisions set forth in sections 552b(c)(4) and 552(c)(6), Title 5 U.S.C., as amended. The contract proposals and the discussions could disclose confidential trade secrets or commercial property such as patentable material, and personal information concerning individuals associated with the contract proposals, the disclosure of which would constitute a clearly unwarranted invasion of personal privacy.

Name of Committee: National Cancer Institute Special Emphasis Panel, Fundamental Technologies for the Development of Biomolecular Sensors.

Date: July 24-25, 2001.

Time: 8 am to 6 pm.

Agenda: To review and evaluate contract proposals.

Place: Ramada Inn, 1775 Rockville Pike, Rockville, MD 20852.

Contact Person: Sherwood Githens, Scientific Review Administrator, National Institutes of Health, National Cancer Institute, Special Review, Referral and Resources Branch, 6116 Executive Boulevard, Room 8068. Bethesda, MD 20892, (301) 435-1822.

Name of Committee: National Cancer Institute Special Emphasis Panel, Fundamental Technologies for the Development of Biomolecular Sensors.

Date: July 26-27, 2001.

Time: 8 am to 6 pm.

Agenda: To review and evaluate contract proposals.

Place: Ramada Inn, 1775 Rockville Pike, Rockville, MD 20852.

Contact Person: Sherwood Githens, Scientific Review Administrator, National Institutes of Health, National Cancer Institute, Special Review, Referral and Resources Branch, 6116 Executive Boulevard, Room 8068. Bethesda, MD 20892, (301) 435-1822.

Any interested person may file written comments with the committee by forwarding the statement to the Contact Person listed on this notice. The statement should include the name, address, telephone number and when applicable, the business or professional affiliation of the interested person.

(Catalogue of Federal Domestic Assistance Program Nos. 93.392, Cancer Construction; 93.393, Cancer Cause and Prevention Research; 93.394, Cancer Detection and Diagnosis Research; 93.395, Cancer Treatment Research; 93.396, Cancer Biology Research; 93.397, Cancer Centers Support; 93.398, Cancer Research Manpower; 93.399, Cancer Control, National Institutes of Health, HHS)
Dated: June 21, 2001.
LaVerne Y. Stringfield,
Director, Office of Federal Advisory Committee Policy.

[FR Doc. 01-16355 Filed 6-28-01; 8:45 am]

BILLING CODE 4140-01-M